DEPARTMENT OF THE INTERIOR

National Park Service

[NPS-WASO-NAGPRA-NPS0039324; PPWOCRADN0-PCU00RP14.R50000]

Notice of Intended Repatriation: Longyear Museum of Anthropology, Colgate University, Hamilton, NY

AGENCY: National Park Service, Interior.

ACTION: Notice.

SUMMARY: In accordance with the Native American Graves Protection and Repatriation Act (NAGPRA), the Longyear Museum of Anthropology (LMA) intends to repatriate certain cultural items that meet the definition of unassociated funerary objects that have a cultural affiliation with the Indian Tribes or Native Hawaiian organizations in this notice.

DATES: Repatriation of the cultural items in this notice may occur on or after February 18, 2025.

ADDRESSES: Kelsey Olney-Wall, Repatriation Manager, University Museums, Colgate University, 13 Oak Drive, Hamilton, NY 13345, telephone (315) 228-7677, email kolneywall@colgate.edu.

SUPPLEMENTARY INFORMATION: This notice is published as part of the National Park Service's administrative responsibilities under NAGPRA. The determinations in this notice are the sole responsibility of the LMA, and additional information on the determinations in this notice, including the results of consultation, can be found in the summary or related records. The National Park Service is not responsible for the determinations in this notice.

Abstract of Information Available

A total of 26 cultural items have been requested for repatriation. The 26 unassociated funerary objects are 25 shell beads and one shell pendant. The 25 “discoidal clamshell wampum beads” and the abalone shell pendant were removed from Prehistoric Maidu Culture, Cremation burial, Bennett Mound, Sacramento County. The LMA acquired the 26 objects as a gift from John Hagen, of Hudson Falls, New York, in 1962. It is unknown how and when he acquired these items, although there is evidence they may have originated from the Gibbs Collection, Gilroy, California. There is no known presence of any potentially hazardous substances used to treat the cultural items.

Determinations

The LMA has determined that:

• The 26 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the Shingle Springs Band of Miwok Indians, Shingle Springs Rancheria (Verona Tract), California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after February 18, 2025. If competing requests for repatriation are received, the LMA must determine the most appropriate requestor prior to repatriation. Requests for joint repatriation of the cultural items are considered a single request and not competing requests. The LMA is responsible for sending a copy of this notice to the Indian Tribes and Native Hawaiian organizations identified in this notice and to any other consulting parties.

Authority: Native American Graves Protection and Repatriation Act, 25 U.S.C. 3004 and the implementing regulations, 43 CFR 10.9.

Dated: January 6, 2025.
Melanie O'Brien,
Manager, National NAGPRA Program.

[FR Doc. 2025-01015 Filed 1-15-25; 8:45 am]

BILLING CODE 4312-52-P